DEPARTMENT OF JUSTICE

Parole Commission

[6P04091]

Public Announcement; Sunshine Act Meeting

Pursuant to the Government in the Sunshine Act (Pub. L. 94-409) [5 U.S.C. 552b].

AGENCY HOLDING MEETING: Department of Justice. United States Parole Commission.

DATE AND TIME: 11:30 a.m., Wednesday, January 24, 2007.

PLACE: U.S. Parole Commission, 5550 Friendship Boulevard, 4th Floor, Chevy Chase, Maryland 20815.

STATUS: Closed—Meeting.

MATTERS CONSIDERED: The following matters will be considered during the closed portion of the Commission's Business Meeting: Petitions for reconsideration involving three original jurisdiction cases pursuant to 28 CFR 2.27.

AGENCY CONTACT: Thomas W. Hutchison, Chief of Staff, United States Parole Commission, (301) 492-5990.

Dated: January 17, 2007.
Rockne Chickinell,
General Counsel, U.S. Parole Commission.

[FR Doc. 07-259 Filed 1-18-07; 10:20 am]

BILLING CODE 4410-31-M